DEPARTMENT OF HEALTH AND HUMAN SERVICES

Announcement of Availability of Funds for Cooperative Agreement With the Arkansas Center for Health Improvement (ACHI) for a Project Entitled, “From BMI to Student Body Mass Improvement: Healthy Achievement Through Awareness and Action—a Detailed Evaluation of the Arkansas School BMI Project.”

AGENCY: Office of Disease Prevention and Health Promotion, Office of Public Health and Science, Office of the Secretary, DHHS.

Announcement Type: Cooperative Agreement—FY 2006 Initial Announcement. Single Source.

Catalog of Federal Domestic Assistance: 93.018.

DATES: Application availability: August 8, 2006. Applications are due by 5 p.m. Eastern Time on September 7, 2006.

SUMMARY: The Office of Disease Prevention and Health Promotion (ODPHP)/Office of Public Health and Science (OPHS), announces that up to $250,000 in fiscal year (FY) 2006 funds is available for a cooperative agreement with the Arkansas Center for Health Improvement (ACHI) for a project entitled, “From BMI to Student Body Mass Improvement: Healthy Achievement Through Awareness and Action—a Detailed Evaluation of the Arkansas School BMI Project.” Working in collaboration with the ACHI, administratively housed unit in the University of Arkansas for Medical Sciences (501C3 organization) and serves as the primary health policy development source for the Arkansas Department of Health and Human Services, the initiative seeks to gain information about programs that have established school based-body mass index assessments of school age children. The goals of this evaluation project are to identify key elements for the translation of BMI information as a public health intervention for positive behavioral change among families, children and adolescents to improve nutrition and increase physical activity. The project will design and pilot test a detailed evaluation protocol to assess the specific benefits and effectiveness of the Arkansas School BMI Assessment Project, building on the findings from the ACHI Report—The 2005 Arkansas Assessment of Childhood and Adolescent Obesity; and The Year Two Evaluation of Arkansas Act 1220 conducted by the University of Arkansas for Medical Sciences' College of Public Health with support from The Robert Wood Johnson Foundation. The evaluation protocol will specially address:

• The effectiveness and acceptability of the BMI assessment by teachers, students, families, and physicians;

• The essential information and care systems to support follow-up and follow-through for prevention and interventions;

• The students, families, and schools knowledge, attitudes, and adoption of healthier nutrition and physical activity choices; and,

• The changes in the individual BMI and the childhood population overweight and obesity rates.

The purpose of this project is to assess the principles and outcomes of a statewide community-based intervention program incorporating various scientific methods and behavioral approaches. At a time when overweight and obesity are dramatically increasing, initiatives like the Arkansas School Body Mass Index (BMI) Assessment Project will evaluate the diverse populations that are at higher than average risk of developing excessive weight, especially children in urban/rural areas with a high prevalence of minority individuals. This program promotes several focus areas of the Healthy People 2010 including: Maternal, Infant, and Child Health; Nutrition and Overweight; Physical Activity and Educational and Community-Based Programs Health Communication. The project will be approved for up to a one-year period for a total of $250,000 (including indirect costs). Funding for the cooperative agreement is contingent upon the availability of funds.

I. Funding Opportunity Description

Under the authority of Section 301, Title III of the U.S. Public Health Service Act—General Powers and Duties of the Public Health Service, 42 U.S.C. Section 301, ODPHP/OPHS, of the Department of Health and Human Services (HHS), announces that up to $250,000 in fiscal year (FY) 2006 funds is available for a cooperative agreement with the Arkansas Center for Health Improvement (ACHI) for a project entitled, “From BMI to Student Body Mass Improvement: Healthy Achievement Through Awareness and Action—a Detailed Evaluation of the Arkansas School BMI Project.” Activities to be addressed through the cooperative agreement will relate to the following topic areas: Access to Care; Diabetes; Maternal, Infant and Child Health; and, Nutrition and Obesity. Funding will be provided by ODPHP from evaluation resources to the awardee.

The goals of this evaluation project are to identify key elements for the translation of BMI information as a public health intervention for positive behavioral change among families, children and adolescents to improve nutrition and increase physical activity.

Background: The obesity epidemic has reached alarming proportions in children. The number of overweight (defined as sex- and age-specific BMI above the 95th percentile) children has doubled in the last 2 decades. This increase in incidence and prevalence spans across cultures, genders, ethnicities, and educational backgrounds.

Although the development of overweight and obesity is multi-factorial, excess calories and inadequate physical activity are two main factors that increase the risk of becoming overweight and/or obese. Overweight children are at risk for developing non-insulin dependent diabetes, cardiovascular disease, poor bone development, and hypertension; which are three major leading causes of disability and death in the U.S. Multiple studies confirm demographic and ethnic differences in physical activity levels and overweight prevalence. For example, African American and Latino children are at greater risk for becoming overweight than Caucasian children. Some studies also suggest higher rates of overweight and obesity among urban children. Furthermore, overweight children not only suffer from physical effects of their weight status but also suffer from low self-esteem, depression, and social discrimination. Therefore, preventing overweight and obesity is essential, especially at a time when overweight and obesity is dramatically increasing in the U.S. population.

On April 11, 2003, Arkansas Act 1220 became the first law in the Nation to provide comprehensive, multifaceted approaches that bring families, schools, and communities together to combat the epidemic of obesity. One mandate of the act is to conduct body mass index assessments of the State's public school children.

ACHI devised a method to measure students' BMI confidentially and uniformly and to create an annual BMI assessment for parents. ACHI developed a measurement protocol and worked with community health nurses, school nurses, and local clinical resources to obtain height/weight assessments for school-age children across the state. BMI calculations were conducted, and a child health report generated for parents and guardians of each child assessed. The reports explain what the BMI is and how it is used, show the child's BMI and how it relates to other Arkansas children, and include suggestions for helping the child to lower his or her BMI if appropriate. In addition to parent reports, ACHI delivered a state report that provided comprehensive data by grade, gender, age, ethnicity, and geographic region to school district superintendents and state legislators.

During the first year of the program (2003 to 2004), 93 percent of the state's schools reported height/weight assessments. By year two, 98 percent of the schools participated, reaching 444,612 children. Data from both years revealed that roughly 39 percent of school-age children were overweight or at risk for becoming overweight, 8 percentage points higher than the national estimates.

As a result of this program, the state of Arkansas can accurately detail the obesity epidemic and track long-range changes in child and adolescent obesity. By identifying the depth and breadth of the obesity epidemic among the state's children, an infrastructure is in place to combat this problem through health promotion and disease prevention and risk reduction efforts. A baseline has been established to enable the state to evaluate progress in combating the child obesity epidemic and establish an evidence-based national model.

Purpose: The purpose of this project is to evaluate and assess the effectiveness and benefits of translating science into practice and behavioral change among children and adolescents. This project will assess the principles and test the merit, feasibility and outcome of targeted health-messages and intervention programs that are statewide, using a multiplicity of methods and approaches. The evaluation of the effectiveness of such a program on nutrition and physical activity knowledge, attitudes, and behavior will help build the research base for health promotion and health policy that can be utilized in decision-making now and in the future.

The project will design and pilot test a detailed evaluation protocol to assess the specific benefits and effectiveness of the Arkansas School BMI Assessment Project, building on the findings from the ACHI Report,—The 2005 Arkansas Assessment of Childhood and Adolescent Obesity; and The Year Two Evaluation of Arkansas Act 1220 conducted by the University of Arkansas for Medical Sciences' College of Public Health with support from The Robert Wood Johnson Foundation. The evaluation protocol will specially address measurable outcomes of the program in alignment with one (or more) of the following performance goals:

• Improve health and reduce disparities;

• Improve disease prevention and health education;

• Improve public health infrastructure; and

• Improve outreach to the community.

Activities: Awardee activities for this program include:

• State supported efforts targeted toward prevention and reduction of pediatric overweight and obesity.

• Community collaboration and input regarding the approaches to preventing and reducing pediatric overweight and obesity.

• Key community stakeholders including schools, parents, teachers, providers, students/children, and youth organizations.

• Detailed BMI assessment of school-age and/or adolescent children within schools, including Medicaid recipients or eligible children, and minorities.

• Data collection, linkage, analysis, and evaluation integral to the program objectives.

• Detailed subgroup analysis including, small area variations, economic gradients, and subgroup analyses by race and ethnicity.

• Parental education regarding the use of BMI, nutrition, and physical activity.

• Effective interventions and follow-up for children who are found to have a high BMI.

II. Award Information

The administrative and funding instrument to be used for this program will be the cooperative agreement in which substantial ODPHP/HHS scientific and/or programmatic involvement is anticipated during the performance of the project. Under the cooperative agreement, ODPHP/HHS will support and/or stimulate awardee activities by working with them in a non-directive partnership role. This will include: review of existing information; formulation of workplan; participating in community stakeholders meetings; data analysis; evaluation design; protocol development; and communications with the community.

Approximately $250,000 in FY 2006 funds is available to support the agreement. The anticipated start date is October 1, 2006. There will only be one single award made from this announcement. The program and budget period for this agreement is for 12 months, with extensions possible up to approximately three years.

Although this program is provided for in the financial plans of the ODPHP, the award pursuant to this RFA is contingent upon the availability of funds for this purpose.

III. Eligibility Information

1. Eligible Applicant

This is a single eligibility cooperative agreement offered to ACHI as the recognized health policy development unit for the State of Arkansas. ACHI has established a unique opportunity to study, evaluate, and make recommendations to prevent and remediate the childhood overweight and obesity epidemic.

Founded in 1997, ACHI is an administratively housed unit in the University of Arkansas for Medical Sciences (a 501c3 organization) that serves as the primary source for executive and legislative branch support of health policy development. In addition to UAMS, ACHI is supported by the Arkansas Department of Health and Human Services.

ACHI has established a unique ability to contribute to the State and national policy dialogue on childhood obesity because of two critical pieces of Arkansas statute:

Arkansas Health Data Initiative: passed by the 84th Arkansas General Assembly in 2003 as Act 1035—authorizes ACHI to have access to any data the State owns or contracts for to advance health policy initiatives within the State.

Arkansas Childhood Obesity Initiative: passed by the 84th Arkansas General Assembly in 2003 as Act 1220—establishes a comprehensive statewide strategy to combat childhood obesity including annual assessment of body mass indices.

From these two legislative initiatives, ACHI has established a population-based longitudinal dataset (currently 3 years) of all Arkansas public school children. Using the authority under the Health Data Initiative, ACHI has linked data from the Arkansas Department of Education, over 300 independent school districts, and the Arkansas Medicaid program to establish a longitudinal dataset tracking over 450,000 school children in grades kindergarten through 12th grade. The dataset includes demographic information, family income, clinical information, as well as height, weight, and body mass information. The longitudinal nature of the dataset will enable evaluation of existing growth curves, sub-analyses for racial and ethnic subgroups unavailable from existing datasets, quantification of the educational and clinical impact of obesity on children and adolescents, and evaluation of policy and healthcare financing strategies in combating the epidemic of child and adolescent obesity. Currently with 3 years of data incorporated, incorporation of future year's data will rapidly enhance the power of this dataset to inform and guide policy development for the nation.

Establishment of a cooperative agreement between ACHI (UAMS) and HHS is warranted because of the unique empirical information available through the Health Data Initiative of the State of Arkansas.

2. Cost Sharing or Matching

Cost sharing, matching funds, and cost participation is not a requirement of this agreement.

IV. Application and Submission Information

1. Address To Request Application Package

Application kits may be requested by calling (240) 453-8822 or writing to: Office of Grants Management, Office of Public Health Science (OPHS), 1101 Wootton Parkway, Suite 550, Rockville, MD 20852. Applications must be prepared using Form OPHS-1. The applicant may fax a written request to the OPHS Office of Grants Management to obtain a hard copy of the application kit at (240) 453-8823.

2. Content and Form of Application Submission

All applications must be accompanied by a Project Abstract submitted on 3.5 inch floppy disk. The abstract must be typed, single-spaced, and not exceed 2 pages. Reviewers and staff will refer frequently to the information contained in the abstract, and therefore it should contain substantive information about the proposed projects in summary form. A list of suggested keywords and a format sheet for your use in preparing the abstract will be included in the application packet.

All grant applications must be accompanied by a Project Narrative. In addition to the instructions provided in OPHS-1 (Rev 8/2004) for project narrative, the specific guidelines for the project narrative are provided in the program guidelines. Format requirements are the same as for the Project Abstract Section; margins should be 1 inch at the top and 1 inch at the bottom and both sides; and typeset must be no smaller than 12 cpi and not reduced. Biographical sketches should be either typed on the appropriate form or plain paper and should not exceed two pages, with publications listed being limited only to those that are directly relevant to this project.

Application Format Requirements

If applying on paper, the entire application may not exceed 80 pages in length, including the abstract, project and budget narratives, face page, attachments, any appendices and letters of commitment and support. Pages must be numbered consecutively. Applications submitted electronically that exceed 80 pages when printed will be deemed non-compliant. All non-compliant applications will be returned to the applicant without further consideration.

a. Number of Copies: Please submit one (1) original and two (2) unbound copies of the application. Please do not bind or staple the application. Application must be single sided.

b. Font: Please use an easily readable serif typeface, such as Times Roman, Courier, or CG Times. The text and table portions of the application must be submitted in not less than 12 point and 1.0 line spacing. Applications not adhering to 12 point font requirements may be returned.

c. Paper Size and Margins: For scanning purposes, please submit the application on 8½″ x 11″ white paper. Margins must be at least one (1) inch at the top, bottom, left and right of the paper. Please left-align text.

d. Numbering: Please number the pages of the application sequentially from page 1 (face page) to the end of the application, including charts, figures, tables, and appendices.

e. Names: Please include the name of the applicant on each page.

f. Section Headings: Please put all section headings flush left in bold type.

Application Format

Applications for funding must consist of the following documents in the following order:

i. Application Face Page: Public Health Service (PHS) Application Form OPHS-1, provided with the application package. Prepare this page according to instructions provided in the form itself.

DUNS Number

All applicant organizations are required to have a Data Universal Numbering System (DUNS) number in order to apply for a grant from the Federal Government. The DUNS number is a unique nine-character identification number provided by the commercial company, Dun and Bradstreet. There is no charge to obtain a DUNS number. Information about obtaining a DUNS number can be found at https://www.dnb.com/product/eupdate/requestoptions.html or call 1-866-705-5711. Please include the DUNS number next to the OMB Approval Number on the application face page.

Additionally, the applicant organization will be required to register with the Federal Government's Central Contractor Registry (CCR) in order to do electronic business with the Federal Government. Information about registering with the CCR can be found at http://www.hrsa.gov/grants/dunsccr.html.

Finally, if the applicant applies electronically through Grants.gov the applicant is required to register with the Credential Provider for Grants.gov. Information about this requirement is available at http://www.grants.gov/CredentialProvider.

Similarly, if the applicant applies electronically through the OPHS E-Grants System the applicant is required to register with the provider. Information about this requirement is available at https://egrants.osophs.dhhs.gov.

ii. Program Narrative: This section provides a comprehensive framework and description of all aspects of the proposed program. It should be succinct, self-explanatory, and well organized so that reviewers can understand the proposed project.

Use the following section headers for the Narrative:

• Executive Summary.

This section should briefly describe the proposed project and supporting initiatives as well as summarize goals that the program intends to achieve through the project initiatives.

• Work Plan.

Describe the current and proposed activities or steps that will be used to achieve the stated goals and objectives. Describe expected outcomes resulting from activities as well as any evaluation mechanisms that will be used to measure the success of the initiatives.

• Mechanism for Administration.

Describe how resources and funds will be administered with regards to the proposed projects.

• In-Kind Support/Resources.

Describe any in-kind support from other sources, if any, that will be used to support the proposed initiatives and activities.

iii. Appendices: Please provide the additional relevant information (including tables, charts, and other relevant documents) to complete the content of the application. Please note that these are supplementary in nature, and are not intended to be a continuation of the project narrative. Be sure each appendix is clearly labeled.

3. Submission Dates and Times

Submission Mechanisms: OPHS provides multiple mechanisms for the submission of applications, as described in the following sections. The applicant will receive notification via mail from the OPHS Office of Grants Management confirming the receipt of applications submitted using any of these mechanisms. Applications submitted to the OPHS Office of Grants Management after the deadlines described below will not be accepted for review. Applications which do not conform to the requirements of the grant announcement will not be accepted for review and will be returned to the applicant.

Applications may only be submitted electronically via the electronic submission mechanisms specified below. Any applications submitted via any other means of electronic communication, including facsimile or electronic mail, will not be accepted for review. While applications are accepted in hard copy, the use of the electronic application submission capabilities provided by the OPHS eGrants system or the Grants.gov Web site Portal is encouraged.

Electronic grant application submissions must be submitted no later than 5 p.m. Eastern Time on the deadline date specified in the DATES section of the announcement using one of the electronic submission mechanisms specified below. All required hardcopy original signatures and mail-in items must be received by the OPHS Office of Grants Management no later than 5 p.m. Eastern Time on the next business day after the deadline date specified in the DATES section of the announcement.

Applications will not be considered valid until all electronic application components, hardcopy original signatures, and mail-in items are received by the OPHS Office of Grants Management according to the deadlines specified above. Application submissions that do not adhere to the due date requirements will be considered late and will be deemed ineligible.

The applicant is encouraged to initiate electronic applications early in the application development process, and to submit early on the due date or before. This will aid in addressing any problems with submissions prior to the application deadline.

Electronic Submissions via the Grants.gov Web site Portal: The Grants.gov Web site Portal provides organizations with the ability to submit applications for OPHS grant opportunities. Organizations must successfully complete the necessary registration processes in order to submit an application. Information about this system is available on the Grants.gov Web site, http://www.grants.gov.

In addition to electronically submitted materials, the applicant may be required to submit hard copy signatures for certain Program related forms, or original materials as required by the announcement. It is imperative that the applicant review both the grant announcement, as well as the application guidance provided within the Grants.gov application package, to determine such requirements. Any required hard copy materials, or documents that require a signature, must be submitted separately via mail to the OPHS Office of Grants Management and, if required, must contain the original signature of an individual authorized to act for the applicant agency and the obligations imposed by the terms and conditions of the grant award.

Electronic applications submitted via the Grants.gov Web site Portal must contain all completed online forms required by the application kit, the Program Narrative, Budget Narrative and any appendices or exhibits. All required mail-in items must be received by the due date requirements specified above. Mail-in items may only include publications, resumes, or organizational documentation.

Upon completion of a successful electronic application submission via the Grants.gov Web site Portal, the applicant will be provided with a confirmation page from Grants.gov indicating the date and time (Eastern Time) of the electronic application submission, as well as the Grants.gov Receipt Number. It is critical that the applicant print and retain this confirmation for their records, as well as a copy of the entire application package.

All applications submitted via the Grants.gov Web site Portal will be validated by Grants.gov. Any applications deemed “Invalid” by the Grants.gov Web site Portal will not be transferred to the OPHS eGrants system, and OPHS has no responsibility for any application that is not validated and transferred to OPHS from the Grants.gov Web site Portal. Grants.gov will notify the applicant regarding the application validation status. Once the application is successfully validated by the Grants.gov Web site Portal, the applicant should immediately mail all required hard copy materials to the OPHS Office of Grants Management to be received by the deadlines specified above. It is critical that the applicant clearly identify the Organization name and Grants.gov Application Receipt Number on all hard copy materials.

Once the application is validated by Grants.gov, it will be electronically transferred to the OPHS eGrants system for processing. Upon receipt of both the electronic application from the Grants.gov Web site Portal, and the required hardcopy mail-in items, the applicant will receive notification via mail from the OPHS Office of Grants Management confirming the receipt of the application submitted using the Grants.gov Web site Portal.

The applicant should contact Grants.gov with any questions or concerns regarding the electronic application process conducted through the Grants.gov Web site Portal.

Electronic Submissions via the OPHS eGrants System: The OPHS electronic grants management system, eGrants, provides for applications to be submitted electronically. Information about this system is available on the OPHS eGrants Web site, https://egrants.osophs.dhhs.gov, or may be requested from the OPHS Office of Grants Management at (240) 453-8822.

When submitting applications via the OPHS eGrants system, the applicant is required to submit a hard copy of the application face page (Standard Form 424) with the original signature of an individual authorized to act for the applicant agency and assume the obligations imposed by the terms and conditions of the grant award. If required, the applicant will also need to submit a hard copy of the Standard Form LLL and/or certain Program related forms (e.g., Program Certifications) with the original signature of an individual authorized to act for the applicant agency.

Electronic applications submitted via the OPHS eGrants system must contain all completed online forms required by the application kit, the Program Narrative, Budget Narrative and any appendices or exhibits. The applicant may identify specific mail-in items to be sent to the Office of Grants Management separate from the electronic submission; however these mail-in items must be entered on the eGrants Application Checklist at the time of electronic submission, and must be received by the due date requirements specified above. Mail-in items may only include publications, resumes, or organizational documentation.

Upon completion of a successful electronic application submission, the OPHS eGrants system will provide the applicant with a confirmation page indicating the date and time (Eastern Time) of the electronic application submission. This confirmation page will also provide a listing of all items that constitute the final application submission including all electronic application components, required hardcopy original signatures, and mail-in items, as well as the mailing address of the OPHS Office of Grants Management where all required hard copy materials must be submitted.

As items are received by the OPHS Office of Grants Management, the electronic application status will be updated to reflect the receipt of mail-in items. It is recommended that the applicant monitor the status of their application in the OPHS eGrants system to ensure that all signatures and mail-in items are received.

Mailed or Hand-Delivered Hard Copy Applications: The applicant who submits an application in hard copy (via mail or hand-delivered) are required to submit an original and two copies of the application. The original application must be signed by an individual authorized to act for the applicant agency or organization and to assume for the organization the obligations imposed by the terms and conditions of the grant award.

Mailed or hand-delivered applications will be considered as meeting the deadline if they are received by the OPHS Office of Grant Management on or before 5 p.m. Eastern Time on the deadline date specified in the DATES section of the announcement. The application deadline date requirement specified in this announcement supersedes the instructions in the OPHS-1. Applications that do not meet the deadline will be returned to the applicant unread.

4. Intergovernmental Review

This program is subject to the Public Health Systems Reporting Requirements. Under these requirements, a community-based non-governmental applicant must prepare and submit a Public Health System Impact Statement (PHSIS). The Applicant shall submit a copy of the application face page (SF-424) and a one page summary of the project, called the Public Health System Impact Statement. The PHSIS is intended to provide information to State and local health officials to keep them apprised on proposed health services grant applications submitted by community-based, non-governmental organizations within their jurisdictions.

Community-based, non-governmental applicants are required to submit, no later than the Federal due date for receipt of the application, the following information to the head of the appropriate State and local health agencies in the area(s) to be impacted: (a) a copy of the face page of the application (SF 424), (b) a summary of the project (PHSIS), not to exceed one page, which provides: (1) A description of the population to be served, (2) a summary of the services to be provided, and (3) a description of the coordination planned with the appropriate State or local health agencies. Copies of the letters forwarding the PHSIS to these authorities must be contained in the application materials submitted to the ODPHP/HHS.

This program is also subject to the requirements of Executive Order 12372 that allows States the option of setting up a system for reviewing applications from within their States for assistance under certain Federal programs. The application kit to be made available under this notice will contain a listing of States that have chosen to set up a review system and will include a State Single Point of Contact (SPOC) in the State for review. Applicants (other than federally recognized Indian tribes) should contact their SPOCs as early as possible to alert them to the prospective applications and receive any necessary instructions on the State process. For proposed projects serving more than one State, the applicant is advised to contact the SPOC in each affected State. A complete list of SPOCs may be found at the following Web site: www.whitehouse.gov/omb/grants/spoc.html. The due date for State process recommendations is 60 days after the application deadline. The ODPHP/HHS does not guarantee that it will accommodate or explain its responses to State process recommendations received after that date. (See “Intergovernmental Review of Federal Programs,” Executive Order 12372, and 45 CFR Part 100 for a description of the review process and requirements.)

5. Funding Restrictions

Funds may not be used for construction, building alterations, equipment purchase, medical treatment, renovations, or to purchase food. Allowability, allocability, reasonableness, and necessity of direct and indirect costs that may be charged are outlined in the following documents: OMB-21 (Institutes of Higher Education); OMB Circular A-122 (Nonprofit Organizations) and 45 CFR part 74, Appendix E (Hospitals). Copies of these circulars can be found on the Internet at: http://www.whitehouse.gov/omb.

V. Application Review Information

1. Criteria

Applications will be screened by ODPHP staff for completeness and for responsiveness to the program guidance. The Applicant should pay strict attention addressing these criteria, as they are the basis upon which applications will be judged. Those applications judged to be non-responsive or incomplete will be returned to the applicant without review.

Applications that are complete and responsive to the guidance will be evaluated for scientific and technical merit by an appropriate peer review group specifically convened for this solicitation and in accordance with HHS policies and procedures. As part of the initial merit review, all applications will receive a written critique. All applications recommended for approval will be discussed fully by the ad hoc peer review group and assigned a priority score for funding. Eligible applications will be assessed according to the following criteria:

(1) Technical Approach (45 Points)

• The applicant's presentation of a sound and practical technical approach for executing the requirements with adequate explanation, substantiation and justification for methods for handling the project.

• The successful applicant must demonstrate a clear understanding of the scope and objectives of the cooperative agreement, recognition of potential difficulties that may arise in performing the work required, presentation of adequate solutions, and understanding of the close coordination necessary between the essential parties in Arkansas, including the health department, payors, schools, practitioners, families, and students.

(2) Experience and Capabilities of the Organization (45 Points)

• The Applicant should submit documented relevant experience of the organization in managing projects of similar complexity and scope of the activities.

• Clarity and appropriateness of lines of communication and authority for coordination and management of the project. Adequacy and feasibility of plans to ensure successful coordination of a multiple-partner collaboration.

(3) Facilities and Resources (10 Points)

• Documented availability and adequacy of facilities, equipment and resources necessary to carry out the activities.

2. Review and Selection Process

Applications will be reviewed in competition with other submitted applications, by a panel of peer reviewers. Each of the above criteria will be addressed and considered by the reviewers in assigning the overall score. Final award will be made by September 15, 2006, on the basis of score, program relevance and, availability of funds.

VI. Award Administration Information

1. Award Notices

ODPHP/HHS does not release information about individual applications during the review process until final funding decisions have been made. When these decisions have been made, the applicant will be notified by letter regarding the outcome of their applications. The official document notifying an applicant that an application has been approved and funded is the Notice of Grant Award signed by the Grants Management Officer, which specifies to the awardee the amount of money awarded, the purpose of the agreement, the terms and conditions of the agreement, and the amount of funding, if any, to be contributed by the awardee to the project costs.

2. Administrative and National Policy Requirements

The regulations set out at 45 CFR parts 74 and 92 are the Department of Health and Human Services (HHS) rules and requirements that govern the administration of grants. Part 74 is applicable to all recipients except those covered by part 92, which governs awards to State and local governments. The applicant funded under this announcement must be aware of and comply with these regulations. The CFR volume that includes parts 74 and 92 may be downloaded from: http://www.access.gpo.gov/nara/cfr/waisidx_05/45cfrv1_05.html.

The HHS Appropriations Act requires that when issuing statements, press releases, requests for proposals, bid solicitation, and other documents describing projects or programs funded in whole or in part with Federal money, grantees shall clearly state the percentage and dollar amount of the total cost of the program or project which will be financed with Federal money and the percentage and dollar amount of the total costs of the project or program that will be financed by non-governmental sources.

3. Reporting

All projects are required to have an evaluation plan, consistent with the scope of the proposed project and funding level that conforms to the project's stated goals and objectives. The evaluation plan should include both a process evaluation to track the implementation of project activities and an outcome evaluation to measure changes in knowledge and skills that can be attributed to the project. Project funds may be used to support evaluation activities. In addition to conducting their own evaluation of projects, the successful applicant must be prepared to participate in an external evaluation, to be supported by ODPHP/HHS and conducted by an independent entity, to assess efficiency and effectiveness for the project funded under this announcement.

Within 30 days following the end of each of quarter, a performance report no more than ten pages in length must be submitted to ODPHP/HHS. A sample monthly performance report will be provided at the time of notification of award. At a minimum, monthly performance reports should include:

• Concise summary of the most significant achievements and problems encountered during the reporting period, e.g. number of training courses held and number of trainees.

• A comparison of work progress with objectives established for the quarter using the grantee's implementation schedule, and where such objectives were not met, a statement of why they were not met.

• Specific action(s) that the grantee would like the ODPHP/HHS to undertake to alleviate a problem.

• Other pertinent information that will permit monitoring and overview of project operations.

• A quarterly financial report describing the current financial status of the funds used under this award. The awardee and ODPHP will agree at the time of award for the format of this portion of the report.

Within 90 days following the end of the project period a final report containing information and data of interest to HHS must be submitted to ODPHP/HHS. The specifics as to the format and content of the final report and the summary will be sent to the successful applicant. At minimum, the report should contain:

• A summary of the major activities supported under the agreement and the major accomplishments resulting from activities with the potential for improving the health of children in Arkansas and its potential for generalizability to other States and communities.

• An analysis of the project based on the problem(s) described in the application and needs assessments, performed prior to or during the project period, including a description of the specific objectives stated in the grant application and the accomplishments and failures resulting from activities during the grant period.

Quarterly performance reports and the final report may be submitted to: Office of Disease Prevention and Health Promotion, Office of Public Health and Science, Office of the Secretary Department of Health and Human Services, 1101 Wootton Parkway, Suite LL100, Rockville, Maryland 20852.

A Financial Status Report (FSR) SF-269 is due 90 days after the close of each 12-month budget period and submitted to the OPHS-Office of Grants Management.

VII. Agency Contacts

For programmatic requirements, please contact: Woodie Kessel, MD, MPH; Cecilia Penn, MD, MPH; Kathryn McMurry, MS, Office of Disease Prevention and Health Promotion, Department of Health and Human Services, 1101 Wootton Parkway, Suite LL100, Rockville, Maryland 20852, telephone: (240) 453-8256.

For administrative requirements, please contact: Office of Grants Management, Office of Public Health and Science, Department of Health and Human Services, 1101 Wootton Parkway, Suite 550, Rockville, Maryland 20852, telephone: (240) 453-8822.

VIII. Tips for Writing a Strong Application

Include DUNS Number. You must include a DUNS Number to have your application reviewed. To obtain a DUNS number, access www.dunandbradstreet.com or call 1-866-705-5711. Please include the DUNS number next to the OMB Approval Number on the application face page.

Keep your audience in mind. Reviewers will use only the information contained in the application to assess the application. Be sure the application and responses to the program requirements and expectations are complete and clearly written. Do not assume that reviewers are familiar with the applicant organization. Keep the review criteria in mind when writing the application.

Start preparing the application early. Allow plenty of time to gather required information from various sources.

Follow the instructions in this guidance carefully. Place all information in the order requested in the guidance. If the information is not placed in the requested order, you may receive a lower score.

Be brief, concise, and clear. Make your points understandable. Provide accurate and honest information, including candid accounts of problems and realistic plans to address them. If any required information or data is omitted, explain why. Make sure the information provided in each table, chart, attachment, etc., is consistent with the proposal narrative and information in other tables.

Be organized and logical. Many applications fail to receive a high score because the reviewers cannot follow the thought process of the applicant or because parts of the application do not fit together.

Be careful in the use of appendices. Do not use the appendices for information that is required in the body of the application. Be sure to cross-reference all tables and attachments located in the appendices to the appropriate text in the application.

Carefully proofread the application. Misspellings and grammatical errors will impede reviewers in understanding the application. Be sure pages are numbered (including appendices) and that page limits are followed. Limit the use of abbreviations and acronyms, and define each one at its first use and periodically throughout application.

Dated: July 31, 2006.
Woodie Kessel,
Deputy Director for Medicine and Health Science, Office of Disease Prevention and Health Promotion.

[FR Doc. E6-12819 Filed 8-7-06; 8:45 am]

BILLING CODE 4150-32-P